DEPARTMENT OF THE INTERIOR

Bureau of Indian Affairs

[201A2100DD/AAKC001030/A0A501010.999900]

Draft Environmental Impact Statement and Draft Conformity Determination for the Tejon Indian Tribe's Proposed Fee-to-Trust Acquisition and Casino Resort Project, Kern County, California

AGENCY: Bureau of Indian Affairs, Interior.

ACTION: Notice of availability.

SUMMARY: This notice advises the public that the Bureau of Indian Affairs (BIA), as lead agency, with the Tejon Indian Tribe (Tribe), Kern County (County), National Indian Gaming Commission (NIGC), and the U.S. Environmental Protection Agency (EPA) serving as cooperating agencies, intends to file a Draft Environmental Impact Statement (DEIS) with the EPA in connection with the Tribe's application for acquisition in trust by the United States of approximately 306 acres for gaming and other purposes to be located west of the Town of Mettler, Kern County, California. This notice also announces that the DEIS is now available for public review and that a public hearing will be held to receive comments on the DEIS.

DATES: Comments on the DEIS must arrive no later than 45 days after publication of this notice in the Federal Register. The date and time of the public hearing will be announced at least 15 days in advance through a notice to be published in a local newspaper (the Bakersfield Californian) and online at http://www.tejoneis.com.

ADDRESSES: You may submit written comments:

• By mail or hand-delivery to: Amy Dutschke, Regional Director, Bureau of Indian Affairs, Pacific Region, 2800 Cottage Way, Sacramento, CA 95825. Please include your name, return address, and “DEIS Comments, Tejon Indian Tribe Casino Project” on the first page of your written comments.

• By email to: Chad Broussard, Environmental Protection Specialist, Bureau of Indian Affairs, at chad.broussard@bia.gov, using “DEIS Comments, Tejon Indian Tribe Casino Project” as the subject of your email.

The DEIS will be available for public review at:

• BIA Pacific Region, 2800 Cottage Way, Sacramento, CA 95825

• Kern County Public Library, Lamont Branch, 8304 Segrue Road, Lamont, CA 93241

• http://www.tejoneis.com.

The location of the public hearing will be announced at least 15 days in advance through a notice to be published in a local newspaper (the Bakersfield Californian) and online at http://www.tejoneis.com.

FOR FURTHER INFORMATION CONTACT: Chad Broussard, Environmental Protection Specialist, Bureau of Indian Affairs, Pacific Regional Office, telephone: (916) 978-6165; email: chad.broussard@bia.gov.

SUPPLEMENTARY INFORMATION: Public review of the DEIS is part of the administrative process for the evaluation of the Tribe's application to the BIA for the placement of approximately 306 acres of fee land in trust in Kern County, California. The Tribe proposes to construct a casino resort on the trust property. A Notice of Intent (NOI) to prepare an EIS was published in the Bakersfield Californian and Federal Register on August 13, 2015. The BIA held a public scoping meeting for the project on September 1, 2015, at the East Bakersfield Veteran's Building, in Bakersfield, California.

Background

The Tribe's proposed project consists of the following components: (1) The Department's transfer of the approximately 306-acre fee property into trust status; (2) issuance of a determination by the Secretary of the Interior pursuant to the Indian Gaming Regulatory Act, 25 U.S.C. 2701 et seq.; (3) the approval of a management contract by the Chairman of the National Indian Gaming Commission under 25 U.S.C. 2711; and (4) the Tribe's proposed development of the trust parcel and the off-site improvement areas. The proposed casino resort would include a hotel, convention center, multipurpose event space, several restaurant facilities, parking facilities, a recreational vehicle (RV) park, fire, and sheriff stations and associated facilities.

The following alternatives are considered in the DEIS: (1) Proposed Project; (2) Reduced Intensity Hotel and Casino; (3) Organic Farm; (4) Alternate Site for the Proposed Project; and (5) No Action Alternative. Environmental issues addressed in the DEIS include geology and soils, water resources, air quality, biological resources, cultural and paleontological resources, socioeconomic conditions (including environmental justice), transportation and circulation, land use, public services, noise, hazardous materials, aesthetics, cumulative effects, and indirect and growth inducing effects. In accordance with Section 176 of the Clean Air Act, 42 U.S.C. 7506, and the EPA general conformity regulations 40 CFR part 93, subpart B, a Draft Conformity Determination (DCD) has been prepared for the proposed project. The Clean Air Act requires Federal agencies to ensure that their actions conform to applicable implementation plans for achieving and maintaining the National Ambient Air Quality Standards for criteria air pollutants. The BIA has prepared a DCD for the proposed action/project described above. The DCD is included in Appendix N of the DEIS.

Locations Where the DEIS Is Available for Review: The DEIS is available for review during regular business hours at the BIA Pacific Regional Office at the address noted above in the ADDRESSES section of this notice. To obtain a compact disc copy of the DEIS, please provide your name and address in writing or by phone to Chad Broussard, Bureau of Indian Affairs, Pacific Regional Office. Contact information is listed in the FOR FURTHER INFORMATION CONTACT section of this notice. Individual paper copies of the DEIS will be provided upon payment of applicable printing expenses by the requestor for the number of copies requested.

Public Comment Availability: Comments, including names and addresses of respondents, will be available for public review at the BIA address shown in the ADDRESSES section, during regular business hours, 8 a.m. to 4:30 p.m., Monday through Friday, except holidays. Before including your address, telephone number, email address, or other personal identifying information in your comment, you should be aware that your entire comment—including your personal identifying information—may be made publicly available at any time. While you can ask in your comment that your personal identifying information be withheld from public review, the BIA cannot guarantee that this will occur.

Authority: This notice is published pursuant to Sec. 1503.1 of the Council of Environmental Quality Regulations (40 CFR parts 1500 through 1508) and Sec. 46.305 of the Department of the Interior Regulations (43 CFR part 46), implementing the procedural requirements of the National Environmental Policy Act of l969, as amended (42 U.S.C. 4371, et seq.), and is in the exercise of authority delegated to the Assistant Secretary—Indian Affairs by 209 DM 8. This notice is also published in accordance with 40 CFR 93.155, which provides reporting requirements for conformity determinations.

Tara Sweeney,
Assistant Secretary—Indian Affairs.

[FR Doc. 2020-12697 Filed 6-11-20; 8:45 am]

BILLING CODE 4337-15-P